DEPARTMENT OF TRANSPORTATION

Federal Aviation Administration

Aviation Rulemaking Advisory Committee Meeting on Transport Airplane and Engine and Emergency Evacuation Issues

AGENCY: Federal Aviation Administration (FAA), DOT.

ACTION: Notice of public meeting.

SUMMARY: This notice announces a public meeting of the FAA's Aviation Rulemaking Advisory Committee (ARAC) to discuss transport airplane and engine (TAE) and emergency evacuation (EE) issues.

DATES: The meeting is scheduled for May 30, 2000, from 10 am to 1 pm e.d.t.

ADDRESSES: Federal Aviation Administration, 800 Independence Avenue, Room 810, Washington, DC.

FOR FURTHER INFORMATION CONTACT: Effie M. Upshaw, Office of Rulemaking, ARM-209, FAA, 800 Independence Avenue, SW., Washington, DC 20591, Telephone (202) 267-7626, FAX (202) 267-5075.

SUPPLEMENTARY INFORMATION: Pursuant to section 10(a)(2) of the Federal Advisory Committee Act (Pub. L. 92-463; 5 U.S.C. app. III), notice is given of an ARAC meeting to be held May 30, 2000, at the Federal Aviation Administration, 800 Independence Ave., Room 810, Washington, DC. The meeting is being held to approve technical reports prepared under the accelerated process for reaching harmonization (66522 FR November 26, 1999). ARAC members agreed in March to hold a meeting/teleconference for the expressed purpose of voting on some of the remaining items identified under the accelerated process.

The agenda will include report presentations by the:

• Mechanical Systems Harmonization Working Group

• Loads and Dynamics Harmonization Working Group,

• Powerplant Installation Harmonization Working Group, and

• Cabin Safety Harmonization Working Group.

Attendance is open to the public, but will be limited to the availability of meeting room space and telephone lines. The public may participate by teleconference by contacting the person listed under the heading FOR FURTHER INFORMATION CONTACT after May 24. The public must make arrangements by May 26 to present oral statements at the meeting. Written statements may be presented to the committee at any time by providing 25 copies to the Assistance Executive Director for Transport Airplane and Engine issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on May 8, 2000.
Anthony F. Fazio,
Executive Director, Aviation Rulemaking Advisory Committee.

[FR Doc. 00-12143 Filed 5-12-00; 8:45 am]

BILLING CODE 4910-13-M